DEPARTMENT OF COMMERCE

National Oceanic and Atmospheric Administration

[I.D. 050406D]

Gulf of Mexico Fishery Management Council; Public Meetings

AGENCY: National Marine Fisheries Service (NMFS), National Oceanic and Atmospheric Administration (NOAA), Commerce.

ACTION: Notice of Ecosystem Scientific and Statistical Committee (SSC) meeting via Conference Call.

SUMMARY: The Gulf of Mexico Fishery Management Council (Council) will convene its Ecosystem SSC via conference call to discuss planning of an ecosystem modeling workshop to be held by the SSC later in the year.

DATES: The conference call will be held on May 30, 2006. The conference call will begin at 10 a.m. EDT and conclude no later than 12 noon EDT.

ADDRESSES: The meeting will be held via conference call and listening stations will be available. For specific locations see SUPPLEMENTARY INFORMATION.

Council address: Gulf of Mexico Fishery Management Council, 2203 North Lois Avenue, Suite 1100, Tampa, FL 33607.

FOR FURTHER INFORMATION CONTACT: Mr. Steven Atran, Population Dynamics Statistician, Gulf of Mexico Fishery Management Council; telephone: (813) 348-1630.

SUPPLEMENTARY INFORMATION: The Council will convene its Ecosystem SSC May 30, 2006, via conference call.

Listening stations are available at the following locations:

The Gulf Council office (see ADDRESSES), and the NMFS offices as follows:

Galveston, TX

4700 Avenue U, Galveston, TX 77551, Contact: Rhonda O'Toole, (409) 766-3500;

St. Petersburg, FL

263 13th Avenue South, St. Petersburg, FL 33701, Contact: Stephen Holiman, (727) 551-5719;

Panama City, FL

3500 Delwood Beach Road, Panama City, FL 32408, Contact: Janice Hamm, (850) 234-6541.

The purpose of the conference call is to decide which issues and models will be evaluated in an ecosystem modeling workshop to be held later this year. The workshop will evaluate the use of ecosystem modeling to address some of the key policy issues facing the Council. The SSC will also discuss what specific tasks will be requested from outside ecosystem modeling experts prior to and during the workshop, a timeline for completion of those tasks, and dates to hold the workshop. Based on the tasks identified by the SSC, the Council will produce a request for proposals (RFP) from which the selection of outside experts will be made.

The Ecosystem SSC, a committee of economists, biologists, sociologists, and natural resource attorneys knowledgeable about the technical aspects of fisheries in the Gulf, is appointed by the Council, and provides advice and opinions on various issues facing the Council.

Copies of any related meeting materials can be obtained by calling the Council office at (813) 348-1630.

Special Accommodations

These meetings are physically accessible to people with disabilities. Requests for sign language interpretation or other auxiliary aids should be directed to Trish Kennedy at the Council (see ADDRESSES) at least 5 working days prior to the meeting.

Dated: May 9, 2006.
Tracey L. Thompson,
Acting Director, Office of Sustainable Fisheries, National Marine Fisheries Service.

[FR Doc. E6-7313 Filed 5-12-06; 8:45 am]

BILLING CODE 3510-22-S